DEPARTMENT OF TRANSPORTATION

Federal Highway Administration

Environmental Impact Statement; North South Hurricane Evacuation Corridor, Houma-Thibodaux to LA 3127; Terrebonne, Lafourche, Assumption, St. James, St. John the Baptist, St. Charles, and St. Mary Parishes, LA

AGENCY: Federal Highway Administration, (FHWA), DOT.

ACTION: Notice of intent.

SUMMARY: The FHWA is issuing this notice to advise interested agencies and the public that, an Environmental Impact Statement will be prepared for a proposed highway project, a hurricane evacuation route, the Houma-Thibodaux to LA 3127 project servicing Terrebonne, Lafourche, Assumption, St. James, St. John the Baptist, St. Charles, and St. Mary Parishes in Louisiana.

FOR FURTHER INFORMATION CONTACT: William C. Farr, Program Operations Manager, Federal Highway Administration, 5304 Flanders Drive, Suite A, Baton Rouge, Louisiana 70808, Telephone (225) 757-7615; Facsimile: (225) 757-7601 or Michele Deshotels, Environmental Impact Manager 2, Louisiana Department of Transportation and Development, PO Box 94245, Baton Rouge, Louisiana 70804, Telephone: (225) 242-4506; Facsimile: (225) 242-4500. Please refer to project designation numbers State Project No. 700-99-0302 & Federal Aid Project No. HP-9902 (518) in any correspondence.

SUPPLEMENTARY INFORMATION: The FHWA, in cooperation with the Louisiana Department of Transportation and Development (LADOTD), will prepare an Environmental Impact Statement (EIS) on a proposal to provide a hurricane evacuation route linking the Houma-Thibodaux area to more direct access to I-10 via LA 3127. Recent planning efforts for this project, known regionally as the Houma-Thibodaux to I-10 Connection (North-South Corridor/Hurricane Evacuation) include the development of a 1999 Louisiana Department of Transportation and Development (LADOTD) study, “Hurricane Evacuation Corridor Study to Connect Relocated US 90 to LA 3127”. Also used to establish the project construction limits for this project was a 2002 LADOTD study, “Corridor Feasibility Study Extension of LA 3235 (Larose to US 90). These planning efforts included public involvement. Using these studies, it has been determined that the proposed project limits would be US 90 (Future I-49) on the south and State Route 3127 on the north. The approximate distance of the project is 23 miles.

This project is intended to serve as a primary north-south hurricane evacuation route. It is part of the State's efforts to provide more direct access to the system network servicing the I-10 corridor during emergency evacuation events.

Alternatives under consideration include (1) taking no action; and (2) constructing a four lane highway on new location within the limits described above, on various alignments.

Letters describing this proposal and soliciting comments will be sent to appropriate Federal, State, and local agencies and to private organizations and individuals that have previously expressed, or are known to have, an interest in this proposal. A series of public meetings will be held. In addition, a public hearing will be held. Public notice will be given, in local newspapers and on the LADOTD Web site, of the time and place of the meetings and hearing. The draft EIS will be available for public and agency review and comment prior to the public hearing. A formal scoping meeting will be held upon initiation of this project.

To ensure that the full range of issues related to this proposed action is addressed, and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on May 24, 2004.
William A. Sussmann,
Division Administrator, FHWA, Baton Rouge, Louisiana.

[FR Doc. 04-12739 Filed 6-4-04; 8:45 am]

BILLING CODE 4910-22-M